DEPARTMENT OF TRANSPORTATION

Pipeline and Hazardous Materials Safety Administration

Office of Hazardous Materials Safety; Notice of Applications for Modification of Special Permit

AGENCY: Pipeline and Hazardous Materials Safety Administration, DOT.

ACTION: List of applications for modification of special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. There applications have been separated from the new applications for special permits to facilitate processing.

DATES: Comments must be received on or before April 6, 1006.

ADDRESSES: Address Comments to: Record Center, Pipeline and Hazardous Materials Safety Administration, U.S. Department of Transportation, Washington, DC 20590.

Comments should refer to the application number and be submitted in triplicate. If Confirmation of receipt of comments is desired, include a self-addressed stamped postcard showing the special permit number.

FOR FUTHER INFORMATION CONTACT: Copies of the applications are available for inspection in the Records Center, Nassif Building, 400 7th Street, SW., Washington DC, or at http://dms.dot.gov.

This notice of receipt of applications for modification of special permit is published in accordance with Part 107 of the Federal hazardous materials transportation law (49 U.S.C. 5117(b); 49 CFR 1.53(b)).

Issued in Washington, DC, on March 16, 2006.
R. Ryan Posten,
Chief, Special Permits Program, Office of Hazardous Materials, Special Permits & Approvals.

Modification Special Permits
Application No. | Docket No. | Applicant | Regulation(s) affected | Modification of special permit | Nature of special permit thereof
7605-M |  | Lockheed Martin Aeronautics Company, Fort Worth, TX | 49 CFR 173.62; 175.3; 176.83; 177.848 | 7605 | To modify the special permit to authorize additional Division 1.4S materials, and to authorize additional non-DOT specification packaging.
10481-M |  | M-1 Engineering Limited, Bradfrod, West Yorkshire | 49 CFR 172.203; 173.318; 173.320; 178.338; 176.30; 176.76(h) | 10481 | To modify the special permit to authorize additional Division 2.2 materials and different design pressures.
10677-M |  | Primus AB SE-171 26 Solna | 49 CFR 173.304(d)(3)(ii) | 10677 | To modify the special permit to authorize additional non-DOT specification packaging.
11691-M |  | Coca-Cola Company, The, Atlanta, GA | 49 CFR 176.83(d); 176.331; 176.800(a) | 11691 | To modify the special permit to provide segregation relief for certain Class 8 corrosive materials in combination with other readily combustible materials as defined in § 176.2 of the Hazardous Materials Regulations.
11911-M |  | Transfer Flow, Inc., Chico, CA | 49 CFR 177.834 | 11911 | To modify the special permit to remove the requirement that hoses are not allowed to be attached to discharge outlets during transportation.
14205-M |  | The Clorox Company, Pleasanton, CA | 49 CFR 173.306(a)(1) and 173.306(a)(3)(v) | 14205 | To modify the special permit to authorize alternative testing requirements, increase lot size, eliminate the requirement to carry a copy of the permit on motor vehicles and to change the proper shipping name to Consumer Commodity, ORM-D.
14292-M |  | Honeywell International Inc., Morristown, NJ | 49 CFR 173.301(d)(2); 173.302(a)(3) | 14292 | To reissue the special permit originally issued on an emergency basis to authorize the transport of boron trifluoride in DOT Specification 3AAX and 3AA manifolded cylinders.

[FR Doc. 06-2745 Filed 3-21-06; 8:45 am]

BILLING CODE 4909-60-M